DEPARTMENT OF COMMERCE

National Telecommunications and Information Administration

Agency Information Collection Activities; Submission for OMB Review; Comment Request

The Department of Commerce will submit to the Office of Management and Budget (OMB) for clearance the following proposal for collection of information under the provisions of the Paperwork Reduction Act (44 U.S.C. Chapter 35).

Agency: National Telecommunications and Information Administration.

Title: NTIA Voluntary Collection of Broadband Availability Data.

OMB Control Number: None.

Form Number(s): None.

Type of Request: Regular submission.

Number of Respondents: 600.

Average Hours per Response: 53.

Burden Hours: 31,800.

Needs and Uses: In the Consolidated Appropriations Act of 2018, Congress directed NTIA to update the national broadband availability map in coordination with the Federal Communications Commission (FCC) and the states.¹ Specifically, Congress directed NTIA to acquire and display available third-party data sets to the extent it is able to negotiate its inclusion to augment data from the FCC, other federal government agencies, state governments, and the private sector.² The objective of these updates is to identify regions of the country with insufficient broadband capacity, particularly in rural areas.

¹ Consolidated Appropriations Act of 2018, Public Law 115-141, Division B, Title I, 132 Stat. 348.

² Joint Explanatory Statement, 164 Cong. Rec. No. 50—Book II, at H2084-85 (Mar. 22, 2018).

Presently, the only source of nationwide broadband availability data is that collected from broadband service provider responses to the FCC Form 477 Fixed Broadband Deployment data process. Form 477 data are submitted by voice and broadband telecommunications service providers semi-annually and include information on the services each provider offers, at the Census block level. While the Census block system provides a very high level of geographic granularity overall—the United States is divided into over 11 million blocks, 95 percent of which do not exceed 1 square mile in land area—it is possible that broadband availability may vary within a single block, (which is most common in rural areas). Additionally, broadband service providers who wish to share more granular data on broadband availability—including regulated and non-regulated entities—have no mechanism to do so. Further, a broadband service provider offering service to any homes or businesses in a Census block is instructed to report that block as served in its Form 477 filing, even though it may not offer broadband services in most of the block. This can lead to overstatements in the level of broadband availability, especially in rural areas where Census blocks are large or when services are only available near the boundaries of a Census block.

As a result of these requirements and constraints, NTIA has developed this voluntary collection of broadband availability data, at a more granular level than that available via current Federal programs (including the FCC Form 477 process). This data will be used to analyze and map broadband availability across the country, and particularly in rural areas, for the purposes of public policy-making and public investment analysis and decision-making. This information collection covers the 50 states, the District of Columbia, the Commonwealth of Puerto Rico, the Island Areas of American Samoa, the Commonwealth of the Northern Mariana Islands, Guam, and the United States Virgin Islands.

The data to be collected includes geographic information on service availability—such as address, address range, road centerline, land-parcel identification, or latitude/longitude—and corresponding broadband availability data (such as technology service type, upload and download speed, etc.) Data in a Geographic Information Systems (GIS) format that describe (a) wireless coverage areas based on a propagation model and (b) network infrastructure (such as fiber optic routes) is also responsive. The information collection will be administered through an online file transfer tool. NTIA will not require that respondents modify appropriate data sets, with the exception that Personally Identifiable Information (PII) should be removed prior to transmission to NTIA.

Affected Public: NTIA intends to collect this information from two types of respondents that collect broadband data with more geographic granularity than the Census block level: (1) Owners and operators of broadband networks; and (2) industry associations, data aggregators, and researchers that study or analyze broadband availability. Respondents may include private companies, non-profits, cooperatives, educational institutions, tribal governments, and local, regional, or state governments. This information collection includes the use of both wireline and wireless technologies to deliver broadband services.

Frequency: Bi-annual. Recognizing the regulatory requirements and deadlines of broadband service providers, NTIA has aligned the due dates for this information collection to trail the bi-annual FCC Form 477 reporting submitted by service providers. Data should be submitted to NTIA on November 1 and May 1 of each year. While NTIA intends to collect information twice a year on these dates, NTIA's online system will not foreclose an entity from submitting information at any other time during the year or more than twice a year if the entity voluntarily chooses to do so.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-10506 Filed 5-20-19; 8:45 am]

BILLING CODE 3510-60-P